DEPARTMENT OF HOUSING AND URBAN DEVELOPMENT

[Docket No. FR-4950-N-14A]

Notice of HUD's Fiscal Year (FY) 2005 Notice of Funding Availability Policy Requirements and General Section to SuperNOFA for HUD's Discretionary Grant Programs; Housing Opportunities for Persons With AIDS (HOPWA); Second Competition Announcement

AGENCY: Office of the Assistant Secretary for Community Planning and Development, HUD.

ACTION: Super Notice of Funding Availability (SuperNOFA) for HUD discretionary grant programs; Housing Opportunities for Persons With AIDS (HOPWA) program Notice of Funding Availability (NOFA); second competition announcement.

Overview Information

A. Federal Agency Name: Department of Housing and Urban Development (HUD), Office of Community Planning and Development.

B. Funding Opportunity Title: FY2005 SuperNOFA; Housing Opportunities for Persons With AIDS (HOPWA) Program NOFA; second competition announcement.

C. Announcement Type: Second round competition.

D. Funding Opportunity Number: The Federal Register number for this NOFA is: FR-4950-N-14A. The OMB approval number for this program is 2506-0133.

E. Catalog of Federal Domestic Assistance (CFDA) Numbers: 14.241 Housing Opportunities for Persons With AIDS Program.

F. Dates: The application submission date for the second HOPWA NOFA competition is October 6, 2005.

G. Additional Overview Information: On March 21, 2005, HUD published its Fiscal Year (FY) 2005, Notice of Funding Availability (NOFA) Policy Requirements and General Section to the SuperNOFA for HUD's Discretionary Grant Programs. The Housing Opportunities for Persons with AIDS (HOPWA) Program NOFA competition, which was included in the SuperNOFA, closed on June 9, 2005. After reviewing and rating HOPWA applications submitted in response to the SuperNOFA, HUD anticipates that assistance will remain available for additional awards. As a result, through this notice published in today's Federal Register, HUD is announcing a second round of HOPWA funding.

Full Text of Announcement

I. Funding Opportunity Description

On March 21, 2005 (70 FR 13575), HUD published its FY2005 SuperNOFA. The HOPWA Program, which was included in the SuperNOFA, made approximately $37 million available in HUD assistance. The application submission date for the HOPWA Program NOFA was June 9, 2005.

HUD received 26 HOPWA applications in response to the FY2005 SuperNOFA. Of these applications, HUD received 25 through Grants.gov and one paper application under a waiver of the electronic filing requirement. Based on the number received and a review of these applications, HUD expects that a balance of grant funding will remain available after the selection of eligible awards from the list of applications received under the FY2005 SuperNOFA. Specifically, HUD anticipates that approximately $18 million in FY2005 funds will be available for additional awards. Therefore, HUD is announcing a second competition for HOPWA funds through the notice published in today's Federal Register. In order to give HOPWA applicants sufficient time to submit completed applications, this notice published in today's Federal Register announces that the application submission date for the HOPWA Program NOFA competition is October 6, 2005.

II. Eligibility Information

Applicability of SuperNOFA General Section and HOPWA Program NOFA Requirements and Selection Criteria to HOPWA Second Round of Competition

HUD published in its General Section (70 FR 13575) and the HOPWA Program NOFA (70 FR 14109) the HOPWA competition description, application submission requirements, and application selection criteria for the first round of HOPWA funding. All requirements, eligibility, thresholds, and selection criteria published in the SuperNOFA General Section and in the HOPWA Program NOFA, except for the requirement to obtain a waiver from the electronic submission requirement 30 days in advance of the program deadline and minor clarifications described in this notice, are applicable to this second competition. This notice clarifies section VI.A.5 of the General Section concerning debriefing. The debriefing period for all HOPWA applicants will begin 30 days after the awards are publicly announced for the second competition. HUD is also clarifying that approximately $9,052,000 in funds remaining from Fiscal Year 2004, as described in the March 21, 2005 HOPWA Program NOFA (see 70 FR 14110), will be obligated for awards under the first round of this competition. This second round competition makes available approximately $18,000,000 in FY2005 funds.

Applicants selected for an award under the first round of HOPWA funding are not eligible for an additional award from funds being made available under this second notice. Applicants are strongly encouraged to carefully read both the SuperNOFA General Section and the HOPWA Program NOFA published on March 21, 2005, in order to compete under this second round of HOPWA funding.

III. Application and Submission Instructions

All applicants must submit new applications in response to this announcement. If you submitted an application electronically through Grants.gov in response to the HOPWA competition announced in the March 21, 2005 SuperNOFA, you will be required to resubmit another complete application for consideration for this competition. Similarly, if you submitted an application in hard or paper copy, you will be required to submit another complete application.

Applicants submitting applications in response to this second round competition for HOPWA may download a new application and submit their applications electronically through Grants.gov or may submit hard copy or paper applications, at their choice. In addition, for this second round of HOPWA funding, an applicant may submit a paper application without requesting a waiver from this requirement. Applicants are encouraged to submit their applications through Grants.gov as described in the SuperNOFA. HUD does not intend to accept paper applications in the future without a waiver.

Applicants that choose to submit a paper application must submit an original and two copies to: HUD Headquarters; Robert C. Weaver Federal Building; 451 Seventh Street, SW., Room 7251, Washington, DC 20410-7000, Attention: HOPWA. Paper applications must be received no later than 5:15 p.m. eastern time on October 6, 2005.

As described in section IV.F.5.b of the General Section, an applicant submitting a paper application must use the United States Postal Service (USPS) to submit its application to HUD. An applicant must take its application to a post office to get a receipt of mailing that provides the date and time the package was submitted to the USPS. USPS rules now require that large packages must be brought to a postal facility for mailing. In many areas, the USPS has made a practice of returning to the sender, large packages that have been dropped in a mail collection box. Paper copy applications submitted to the USPS by the submission date and time and received by HUD no later than 15 days after the established submission date will receive funding consideration. If the USPS does not have a receipt with a digital time stamp, HUD will accept a receipt showing USPS Form 3817, Certificate of Mailing with a dated postmark. The proof of submission receipt provided by the Postal Service must show receipt no later than the application submission deadline. An applicant whose application is determined to be late, that cannot furnish HUD with a receipt from the USPS that verifies the package was submitted to the USPS prior to the submission due date and time will not receive funding consideration. An applicant may use any type of mail service provided by the USPS to have their application package delivered to HUD in time to meet the submission requirements.

HUD will not accept hand delivery of applications.

IV. Agency Contact

For further information, please contact: David Vos, Director, Office of HIV/AIDS Housing, Office of Community Planning and Development, Department of Housing and Urban Development, 451 Seventh Street, SW., Room 7212, Washington, DC 20410-7000; telephone 202-708-1934 (this is not a toll-free number). Persons with speech or hearing impairments may access this number through TTY by calling the toll-free Federal Information Relay Service at 800-877-8339.

Dated: August 11, 2005.
Pamela H. Patenaude,
Assistant Secretary for Community Planning and Development.

[FR Doc. E5-4546 Filed 8-19-05; 8:45 am]

BILLING CODE 4210-29-P